POSTAL SERVICE

39 CFR Part 111

Removal of Sacks—USPS Marketing Mail and Periodicals Flats

AGENCY: Postal Service™.

ACTION: Proposed rule.

SUMMARY: The Postal Service™ proposes to revise Mailing Standards of the United States Postal Service, Domestic Mail Manual (DMM®) to remove references to sacks as a handling unit for USPS Marketing Mail® and Periodicals Flats.

DATES: Submit comments on or before November 21, 2022.

ADDRESSES: Mail or deliver written comments to the manager, Product Classification, U.S. Postal Service®, 475 L'Enfant Plaza SW, Room 4446, Washington, DC 20260-5015. You may inspect and photocopy all written comments at USPS® Headquarters Library, 475 L'Enfant Plaza SW, 11th Floor N, Washington, DC by appointment only between the hours of 9 a.m. and 4 p.m., Monday through Friday by calling 1-202-268-2906 in advance. Email comments, containing the name and address of the commenter, may be sent to: ProductClassification@usps.gov, with a subject line of “Network Redesign—Removal of Sacks.” Faxed comments are not accepted.

FOR FURTHER INFORMATION CONTACT: Dale Kennedy at (202) 268-6592 or Doriane Harley at (202) 268-2537.

SUPPLEMENTARY INFORMATION: As part of its network redesign efforts, the Postal Service is proposing to eliminate the use of sacks as containers for Flats acceptance/entry but will continue to allow Flat trays as acceptable containers for acceptance and entry along with bundles on pallets for USPS Marketing Mail and Periodicals Flat Mail. The exception to this proposal is that carrier route, 5-digit scheme carrier routes and 5-digit carrier routes flat mail will continue to be allowed to use sacks as a handling unit.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is proposed to be amended as follows:

PART 111—[AMENDED.]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

200 Commercial Letters, Cards, Flats, and Parcels

* * * * *

203 Basic Postage Statement, Documentation, and Preparation Standards

* * * * *

3.0 Standardized Documentation for First-Class Mail, Periodicals, USPS Marketing Mail, and Flat-Size Bound Printed Matter

* * * * *

3.4 Sortation Level

* * * * *

Sortation level | Abbreviation
* * * * * * *
[Revise the item beginning with “Merged 5-Digit ” to read as follows:]
Merged 5—Digit [flat trays and pallets (Periodicals and USPS Marketing Mail flats); sacks and pallets (irregular parcels)] | M5D
[Revise the item beginning with “Merged 5-Digit Scheme” to read as follows:]
Merged 5—Digit Scheme [flat trays and pallets (Periodicals and USPS Marketing Mail flats); sacks and pallets (irregular parcels)] | M5DS
* * * * * * *
[Revise the item beginning with “Merged 3-Digit ” to read as follows:]
Merged 3-Digit [flat trays (Periodicals flats); sacks (irregular parcels)] | M3D
* * * * * * *
[Revise the item beginning with “SCF ” to read as follows:]
SCF [flat trays and pallets (Periodicals flats and USPS Marketing Mail); sacks and pallets | SCF
(Bound Printed Matter and irregular parcels less than 6 ounces)]

* * * * *

4.0 Bundles

* * * * *

[Revise the title of 4.4 to read as follows:]

4.4 Exception to Bundle Preparation—Full Letter and Flat Trays

* * * * *

4.6 Address Visibility for Flats and Parcels

* * * * *

[Revise the items 4.6b and 4.6c to read as follows:]

b. Bundles placed in or on 5-digit or 5-digit scheme (L001) flat trays or pallets.

c. Bundles placed in carrier route and 5-digit carrier routes flat trays or sacks.

* * * * *

[Revise the title of 4.8 to read as follows:]

4.8 Preparing Bundles in Sacks and Flat Trays

[Revise the introductory text of 4.8 to read as follows:]

In addition to the standards in 4.5 through 4.7, mailers must prepare bundles placed in flat trays and sacks as follows:

* * * * *

[Revise the title of 4.10 to read as follows:]

4.10 Additional Standards for Unsacked/Untrayed Bundles Entered at DDU Facilities

[Revise the introductory text of 4.10 to read as follows:]

Mailers may enter unsacked, untrayed, or nonpalletized bundles of carrier route, Periodicals, or USPS Marketing Mail flats and unsacked bundles of Bound Printed Matter (BPM) flats or irregular parcels (BPM only) at destination delivery units (DDUs) if all the following conditions are met:

* * * * *

4.11 Pieces With Simplified Address

[Revise the last sentence of the introductory text of 4.11 to read as follows:]

* * * Bundles must be secure and stable subject to weight limits in 705.8.0 if placed on pallets, and weight and height limits in 4.8 if placed in flat trays.

* * * * *

5.0 Letter and Flat Trays

5.1 General Standards

[Revise the last sentence of the introductory text of 5.1 to read as follows:]

* * * Periodicals and USPS Marketing Mail flat-size mailings must be prepared in flat trays with green lids under 207.22.7, 207.25.5, 245.8.7, and 245.10.4.3 (see also 5.6.2j).

* * * * *

5.6.2 Preparation for Flats in Flat Trays

* * * * *

[Add an item (j) to read as follows:]

j. Flat trays used in a Periodicals or USPS Marketing Mail flat-size mailing may be nested into each other on a pallet without lids and the pallet then shrink-wrapped.

* * * * *

204 Barcode Standards

* * * * *

3.0 Standards for Barcoded Tray Labels, Sack Labels, and Container Labels

* * * * *

3.2 Specifications for Barcoded Tray and Sack Labels

* * * * *

3.2.4 3-Digit Content Identifier Numbers

* * * * *

Exhibit 3.2.4 3-Digit Content Identifier Numbers

* * * * *

[Revise Exhibit 3.2.4 to read as follows:]

Class and mailing | CIN | Human-readable content line
* * * * * * *
[Revise the text of “Per Flats—Carrier Route,” “Per Flats—Barcoded,” “Per Flats—Nonbarcoded,” “Per Flats—Cosacked Barcoded and Nonbarcoded,” and “Per Flats—Merged Carrier Route, Barcoded, and Nonbarcoded ” to read as follows:]
PER Flats—Carrier Route:
car. rt. sacks or flat trays—saturation | 387 | PER FLTS WSS ¹
car. rt. sacks or flat trays—high density | 388 | PER FLTS WSH ¹
car. rt. sacks or flat trays—basic | 385 | PER FLTS CR ¹
5-digit carrier routes sacks or flat trays | 386 | PER FLTS 5D CR-RTS
5-digit scheme carrier routes sacks or flat trays | 371 | PER FLTS CR-RTS SCH
3-digit carrier routes flat trays | 351 | PER FLTS 3D CR-RTS
PER Flats—Barcoded:
5-digit flat trays | 372 | PER FLTS 5D BC
5-digit scheme flat trays | 372 | PER FLTS 5D SCH BC
3-digit flat trays | 373 | PER FLTS 3D BC
SCF flat trays | 377 | PER FLTS SCF BC
ADC flat trays | 374 | PER FLTS ADC BC
mixed ADC flat trays | 375 | PER FLTS BC WKG
Origin mixed ADC flat trays | 381 | PER FLTS WKG W FCM
PER Flats—Nonbarcoded:
5-digit scheme flat trays | 378 | PER FLT 5D SCH NON BC
5-digit flat trays | 378 | PER FLTS 5D NON BC
3-digit flat trays | 379 | PER FLTS 3D NON BC
SCF flat trays | 384 | PER FLTS SCF NON BC
ADC flat trays | 380 | PER FLTS ADC NON BC
mixed ADC flat trays | 382 | PER FLTS NON BC WKG
origin mixed ADC flat trays | 381 | PER FLTS WKG W FCM
PER Flats—Co-trayed Barcoded and Nonbarcoded:
5-digit scheme flat trays | 321 | PER FLT 5D SCH BC/NBC
5-digit flat trays | 321 | PER FLTS 5D BC/NBC
3-digit flat trays | 322 | PER FLTS 3D BC/NBC
SCF flat trays | 329 | PER FLTS SCF BC/NBC
ADC flat trays | 331 | PER FLTS ADC BC/NBC
mixed ADC flat trays | 332 | PER FLTS BC/NBC WKG
origin mixed ADC flat trays | 381 | PER FLTS WKG W FCM
PER Flats—Merged Carrier Route, Barcoded, and Nonbarcoded:
merged 5-digit sacks or flat trays | 339 | PER FLTS CR/5D
merged 5-digit scheme sacks or flat trays | 349 | PER FLTS CR/5D SCH
merged 3-digit flat trays | 352 | PER FLTS CR/5D/3D
* * * * * * *
[Revise the text of “NEWS Flats—Carrier Route,” “NEWS Flats—Barcoded,” “NEWS Flats—Nonbarcoded,” “NEWS Flats—Cosacked Barcoded and Nonbarcoded,” and “NEWS Flats—Merged Carrier Route, Barcoded and Nonbarcoded ” to read as follows:]
NEWS Flats—Carrier Route:
car. rt. sacks or flat trays—saturation | 487 | NEWS FLTS WSS ¹
car. rt. sacks or flat trays—high density | 488 | NEWS FLTS WSH ¹
car. rt. sacks or flat trays—basic | 485 | NEWS FLTS CR ¹
5-digit carrier routes sacks or flat trays | 486 | NEWS FLTS 5D CR-RTS
5-digit scheme carrier routes sacks or flat trays | 471 | NEWS FLTS CR-RTS SCH
3-digit carrier routes flat trays | 451 | NEWS FLTS 3D CR-RTS
NEWS Flats—Barcoded:
5-digit flat trays | 472 | NEWS FLTS 5D BC
5-digit scheme flat trays | 472 | NEWS FLTS 5D SCH BC
3-digit flat trays | 473 | NEWS FLTS 3D BC
SCF flat trays | 477 | NEWS FLTS SCF BC
ADC flat trays | 474 | NEWS FLTS ADC BC
mixed ADC flat trays | 475 | NEWS FLTS BC WKG
origin mixed ADC flat trays | 481 | NEWS FLTS WKG W FCM
NEWS Flats—Nonbarcoded:
5-digit scheme flat trays | 478 | NEWS FLT 5D SCH NON BC
5-digit flat trays | 478 | NEWS FLTS 5D NON BC
3-digit flat trays | 479 | NEWS FLTS 3D NON BC
SCF flat trays | 484 | NEWS FLTS SCF NON BC
ADC flat trays | 480 | NEWS FLTS ADC NON BC
mixed ADC flat trays | 482 | NEWS FLTS NON BC WKG
origin mixed ADC flat trays | 481 | NEWS FLTS WKG W FCM
NEWS Flats—Co-trayed Barcoded and Nonbarcoded:
5-digit scheme flat trays | 421 | NEWS FLT 5D SCH BC/NBC
5-digit flat trays | 421 | NEWS FLTS 5D BC/NBC
3-digit flat trays | 422 | NEWS FLTS 3D BC/NBC
SCF and origin/entry SCF flat trays | 429 | NEWS FLTS SCF BC/NBC
ADC flat trays | 431 | NEWS FLTS ADC BC/NBC
mixed ADC flat trays | 432 | NEWS FLTS BC/NBC WKG
origin mixed ADC flat trays | 481 | NEWS FLTS WKG W FCM
NEWS Flats—Merged Carrier Route, Barcoded, and Nonbarcoded:
merged 5-digit | 439 | NEWS FLTS CR/5D
merged 5-digit scheme | 449 | NEWS FLTS CR/5D SCH
merged 3-digit flat trays | 452 | NEWS FLTS CR/5D/3D
* * * * * * *
[Revise the text of “Enhanced Carrier Route Flats—Nonautomation,” “MKT Flats—Cosacked Automation and Nonautomation,” “MKT Flats—Merged Carrier Route, Automation, and Presorted,” “MKT Flats—Automation,” “MKT Flats—Nonautomation,” and “MKT Flats—Residual Pieces Subject to FCM Single-Piece Prices” to read as follows:]
Enhanced Carrier Route Flats—Nonautomation:
saturation price sacks or flat trays | 587 | MKT FLTS ECRWSS ¹
high density or high density plus price sacks or | 588 | MKT FLTS ECRWSH ¹
flat trays
basic price sacks or flat trays | 589 | MKT FLTS ECRLOT ¹
5-digit carrier routes sacks or flat trays | 586 | MKT FLTS CR-RTS
5-digit scheme car. rts. sacks or flat trays | 529 | MKT FLTS CR-RTS SCH
MKT Flats—Co-trayed Automation and Nonautomation:
5-digit scheme flat trays | 521 | MKT FLT 5D SCH BC/NBC
5-digit flat trays | 521 | MKT FLTS 5D BC/NBC
3-digit and origin/entry 3-digit flat trays | 522 | MKT FLTS 3D BC/NBC
ADC flat trays | 531 | MKT FLTS ADC BC/NBC
mixed ADC flat trays | 532 | MKT FLTS BC/NBC WKG
MKT Flats—Merged Carrier Route, Automation, and Presorted:
merged 5-digit | 539 | MKT FLTS CR/5D
merged 5-digit scheme | 549 | MKT FLTS CR/5D SCH
MKT Flats—Automation:
5-digit flat trays | 572 | MKT FLTS 5D BC
5-digit scheme flat trays | 572 | MKT FLTS 5D SCH BC
3-digit flat trays | 573 | MKT FLTS 3D BC
ADC flat trays | 574 | MKT FLTS ADC BC
mixed ADC flat trays | 575 | MKT FLTS BC WKG
MKT Flats—Nonautomation:
5-digit scheme flat trays | 578 | MKT FLT 5D SCH NON BC
5-digit flat trays | 578 | MKT FLTS 5D NON BC
3-digit flat trays | 579 | MKT FLTS 3D NON BC
ADC flat trays | 580 | MKT FLTS ADC NON BC
mixed ADC flat trays | 582 | MKT FLTS NON BC WKG
MKT Flats—Residual Pieces Subject to FCM Single-Piece Prices:
residual flat trays | 582 | MKT FLTS WKG
* * * * * * *
PACKAGE SERVICES
* * * * * * *
BPM Flats—Co-sacked Barcoded and Presorted:
[Revise the text of “BPM—Co-sacked Barcoded and Presorted ” to read as follows:]
5-digit scheme sacks | 648 | PSVC FLTS 5D SCH BC/NBC
5-digit sacks | 648 | PSVC FLTS 5D BC/NBC
3-digit sacks | 661 | PSVC FLTS 3D BC/NBC
SCF sacks | 667 | PSVC FLTS SCF BC/NBC
ADC sacks | 668 | PSVC FLTS ADC BC/NBC
mixed ADC sacks | 669 | PSVC FLTS BC/NBC WKG

* * * * *

207 Periodicals

* * * * *

12.0 Nonbarcoded (Presorted) Eligibility

* * * * *

12.3 Prices—In-County

12.3.1 Five-Digit Prices

* * * * *

[Revise the text of 12.3.1b to read as follows:]

b. Nonletter-size pieces in 5-digit scheme bundles and 5-digit bundles of six or more addressed pieces each, placed in 5-digit scheme flat trays, or 5-digit flat trays, or palletized under 705.8.0 or 705.10.0, 705.12.0, or 705.13.0.

* * * * *

12.3.2 Three-Digit Prices

* * * * *

[Revise the text of 12.3.2b to read as follows:]

b. Nonletter-size pieces in 5-digit scheme, 5-digit, 3-digit scheme, and 3-digit bundles of six or more addressed pieces each, placed in 3-digit flat trays; or 3-digit scheme and 3-digit bundles of six or more addressed pieces each, prepared under 705.8.0 or 705.10.0, 705.12.0, or 705.13.0.

* * * * *

13.0 Carrier Route Eligibility

* * * * *

13.2 Sorting

13.2.1 Basic Standards

* * * * *

[Revise the text of 13.2.1b(2) and 13.2.1b(3) to read as follows:]

2. Bundles in carrier route, 5-digit scheme carrier routes, 5-digit carrier routes sacks/flat trays, or 3-digit carrier routes flat trays under 23.0. Sacks/flat trays may be palletized under 705.8.0.

3. Unsacked/untrayed bundles entered at a destination delivery unit under 23.4.2 and 29.6.5.

* * * * *

18.0 General Mail Preparation

* * * * *

18.4 Mail Preparation Terms

* * * * *

[Revise the text of 18.4j to read as follows:]

j. A 5-digit scheme carrier routes sort for carrier route Periodicals flats prepared in sacks/flat trays and irregular parcels prepared in sacks or as bundles on pallets yields a 5-digit scheme carrier routes sack/flat tray or pallet for those 5-digit ZIP Codes listed in L001 and 5-digit carrier routes sacks/flat trays or pallets for other areas. The 5-digit ZIP Codes in each scheme are treated as one presort destination. Sacks/flat trays or pallets prepared for a 5-digit scheme carrier routes destination that contain carrier route bundles for only one of the schemed 5-digit areas are still considered to be sorted to 5-digit scheme carrier routes. Preparation of 5-digit scheme carrier routes sacks/flat trays or pallets must be done for all 5-digit scheme destinations.

* * * * *

[Revise the text of 18.4s to read as follows:]

s. An origin/entry SCF flat tray contains all 5-digit and 3-digit bundles (regardless of quantity) for the SCF in whose service area the mail is verified. At the mailer's option, such a flat tray may be prepared for the SCF area of each entry Post Office. This presort level applies only to nonletter-size Periodicals prepared in flat trays.

* * * * *

[Revise the text of 18.4y to read as follows:]

y. A “logical” presort destination represents the total number of pieces that are eligible for a specific presort level based on the required sortation, but which might not be contained in one bundle or in one container (flat tray, sack or pallet) due to preparation requirements or the piece size. For example, there may be 42 mailpieces for ZIP Code 43112 forming a “logical”5-digit bundle, and they are prepared in three physical 5-digit bundles because of the weight and height restrictions on bundles.

* * * * *

20.0 Sacks and Trays

20.1 Basic Standards

20.1.1 General

Mailings must be prepared in letter trays (letters), flat trays (flats) under 22.7 and 25.5, or sacks (carrier route, 5-digit scheme cr-rt and 5-digit cr-rt flats and all periodicals parcels). Palletized mail is subject to 705.8.0. See 203.5.0 and 203.6.0 for tray and sack standards.

* * * * *

22.0 Preparing Nonbarcoded (Presorted) Periodicals

* * * * *

22.4 Bundles With Fewer Than Six Pieces

* * * * *

[Revise the text of 22.4a to read as follows:]

a. Place bundles in only 5-digit,3-digit, and SCF flat trays that contain at least 24 pieces, or in origin/entry SCF flat trays, as appropriate.

* * * * *

[Revise the title of 22.5 to read as follows:]

22.5 Letter Tray Preparation—Letter-Size Pieces

* * * * *

[Revise the title of 22.6 to read as follows:]

22.6 Sack Preparation—Parcels

For mailing jobs that also contain a barcoded mailing, see 22.1.2. For other mailing jobs, preparation sequence, sack size, and labeling:

[Delete item 22.6a in its entirety and renumber the remaining items as (a) through (g) respectively; revise the new items a through g to read as follows:]

a. 5-digit, required at 72 pieces, optional at 24 pieces minimum.

1. Line 1: use city, state, and 5-digit ZIP Code on mail (see 21.0 for overseas military mail).

2. Line 2: “PER” or NEWS” as applicable; followed by “IRREG” as applicable; followed by “5D”.

b. 3-digit, required at 72 pieces, optional at 24 pieces minimum.

1. Line 1: use L002, Column A.

2. Line 2: “PER” or “NEWS” as applicable; followed by “IRREG” as applicable; followed by “3D'.

c. SCF, required at 72 pieces, optional at 24 pieces minimum.

1. Line 1: use L002, Column C.

2. Line 2: “PER” or “NEWS” as applicable; followed by “IRREG” as applicable; followed by “SCF'.

d. Origin/entry SCF, required for the SCF of the origin (verification) office, optional for the SCF of an entry office other than the origin office, (no minimum); for Line 1 use L002, Column C.

1. Line 1: use L002, Column C.

2. Line 2: “PER” or “NEWS” as applicable; followed by “IRREG” as applicable; followed by “SCF'.

e. ADC, required at 72 pieces, optional at 24 pieces minimum.

1. Line 1: use L004, Column B.

2. Line 2: “PER” or “NEWS” as applicable; followed by or “IRREG” as applicable; followed by “ADC'.

f. Origin mixed ADC, required; no minimum; for any remaining bundles for destinations in L201, Column B, corresponding to the origin ZIP Code in Column A.

1. Line 1: Use L201, Column C.

2. Line 2: “PER” or “NEWS” as applicable, followed by “IRREG” as applicable, followed by “WKG W FCM.”

g. Mixed ADC, required (no minimum).

1. Line 1: Use L009, Column B.

2. Line 2: “PER” or “NEWS” as applicable; followed by “IRREG” as applicable; followed by “WKG” for irregular parcels.

[Revise the title of 22.7 to read as follows:]

22.7 Tray Preparation—Flat-Size Pieces

[Revise the Introductory text of 22.7 to read as follows:]

Mailers must place flat sized pieces in flat trays (see 203.5.6) instead of sacks unless prepared as direct carrier route, 5-digit scheme carrier route, or 5-digit carrier route (see 23.4.1 and 705.9.0 or 705.10.0). Mailers also may prepare nonmachinable (see 26.0) flats in flat trays. Bundling is not permitted unless a bundle is more finely presorted than the tray's presort destination. The trays are subject to a container charge, and any bundles are subject to a bundle charge. Tray preparation, sequence, and labeling: * * *

* * * * *

23.0 Preparing Carrier Route Periodicals

* * * * *

23.6 Bundles With Fewer Than Six Pieces

[Revise the text of 23.6a to read as follows:]

* * * * *

a. Place bundles in only 5-digit scheme carrier routes and 5-digit carrier routes sacks/flat trays that contain at least 24 pieces, or 3-digit carrier routes or merged 3-digit flat trays that contain at least one six-piece carrier route bundle.

* * * * *

23.7 Multi-Box Section Bundles—Optional Preparation

[Revise the text of 23.7e to read as follows:]

e. Place bundles in existing carrier-route flat trays, 5-Digit scheme carrier routes, or 5-Digit carrier routes sacks/flat trays.

* * * * *

25.0 Preparing Flat-Size Barcoded (Automation) Periodicals

25.1 Basic Standards

* * * * *

25.1.7 Exception—Barcoded and Nonbarcoded Flats on Pallets

* * * * *

[Revise the text of 25.1.7b and 25.1.7c to read as follows:]

b. Mailing jobs prepared entirely in flat trays and claiming this exception must be cobundled under 705.11.0.

c. As an alternative to 705.9.0 through 705.13.0, if a portion of the job is prepared as palletized barcoded flats, the nonbarcoded portion may be prepared as palletized flats and paid at nonbarcoded machinable and carrier route prices. The nonbarcoded price pieces that cannot be placed on ADC or finer pallets may be prepared as flats in flat trays and paid at the nonbarcoded prices.

25.1.8 Bundles With Fewer Than Six Pieces

* * * * *

[Revise the text of 25.1.8a to read as follows:]

a. Place 5-digit and 3-digit bundles in only 5-digit scheme, 5-digit, 3-digit, and SCF flat trays, as appropriate, that contain at least 24 pieces, or in merged 3-digit flat trays that contain at least one six-piece carrier route bundle, or in origin/entry SCF flat trays.

* * * * *

[Revise the text of 25.1.8c to read as follows:]

c. Place 5-digit scheme and 3-digit scheme bundles in only 5-digit scheme, 3-digit, and SCF flat trays, as appropriate, that contain at least 24 pieces, or in merged 3-digit flat trays that contain at least one six-piece carrier route bundle, or in origin/entry SCF flat trays.

* * * * *

[Revise the title of 25.1.9 to read as follows:]

25.1.9 Cotraying and Cobundling With Nonbarcoded and Carrier Route Price Mail

* * * * *

[Revise the text of 25.1.9b and 25.1.9c to read as follows:]

b. If the mailing job contains a machinable barcoded and nonbarcoded mailing, then it must be prepared under the cotraying standards in 705.9.0. Machinable barcoded and nonbarcoded pieces may be cobundled under the standards in 705.11.0.

c. If the mailing job contains a carrier route mailing and a machinable barcoded mailing, then it must be separately trayed under 23.0 and 25.0 or prepared using the merged flat tray option under 705.10.0.

* * * * *

240 Commercial Mail USPS Marketing Mail

243 Prices and Eligibility

* * * * *

5.0 Additional Eligibility Standards for Nonautomation USPS Marketing Mail Letters, Flats, and Presorted USPS Marketing Mail Parcels

* * * * *

5.6 Nonautomation Price Application—Flats

5.6.1 5-Digit Prices for Flats

[Revise item a to read as follows:]

In a 5-digit/scheme bundle of 10 or more pieces, or 15 or more pieces, as applicable; properly placed in a 5-digit/scheme flat tray (see full flat tray 245.1.4).

* * * * *

[Revise item c to read as follows:]

c. In a 5-digit bundle of 10 or more pieces, or 15 or more pieces, as applicable; properly placed in a merged 5-digit/scheme or 5-digit flat tray under 705.10.0.

5.6.2 3-Digit Prices for Flats

[Revise item a to read as follows:]

a. In a 5-digit/scheme bundle of 10 or more pieces, or 15 or more pieces, as applicable, or in a 3-digit/scheme bundle of 10 or more pieces; properly placed in a 3-digit flat tray (see full flat tray 245.1.4).

5.6.3 ADC Prices for Flats

[Revise items a and b to read as follows:]

a. In a 5-digit/scheme, 3-digit/scheme, or ADC bundle of 10 or more pieces properly placed in an ADC flat tray (see full flat tray 245.1.4).

b. In an optional 3-digit/scheme origin/entry flat tray.

* * * * *

5.6.4 Mixed ADC Prices for Flats

[Revise the text of 5.6.4 to read as follows:]

[Mixed ADC prices apply to flat-size pieces in bundles that do not qualify for 5-digit, 3-digit, or ADC prices; placed in mixed ADC flat trays or on ASF, NDC, or mixed NDC pallets under 705.8.0.

* * * * *

6.3 Basic Price Enhanced Carrier Route Standards

* * * * *

6.3.4 Basic Carrier Route Bundles on a 5-Digit/Direct Container (Basic-CR Bundles/Container) Price Eligibility—Flats

[Revise the text of 6.3.4 to read as follows:]

The Basic-CR Bundles/Container discount applies to each piece in a carrier route bundle of 10 or more pieces that are palletized under 705.8.0, 705.10.0, 705.12.0, or 705.13.0 on a5-digit carrier route or 5-digit scheme carrier route pallet entered at an Origin (None), DNDC, DSCF, or DDU entry or in a carrier route sack or flat tray under 245.9.7a or 203.5.8 and entered at the DDU.

* * * * *

6.5 High Density and High Density Plus (Enhanced Carrier Route) Standards—Flats

* * * * *

6.5.3 High Density Carrier Route Bundles on a 5-Digit/Direct Container (High Density-CR Bundles/Container Discount Eligibility)—Flats

[Revise the text of 6.5.3 to read as follows:]

The High Density-CR Bundles/Container discount applies to 125 or more High Density-eligible pieces that are palletized under 705.8.0, 705.10.0, 705.12.0, or 705.13.0 on a 5-digit carrier route, 5-digit carrier routes, or 5-digit scheme carrier route pallet entered at an Origin (None), DNDC, DSCF, or DDU entry or in a carrier route sack or flat tray under 245.9.7a or 203.5.8 and entered at the DDU.

6.5.4 High Density Plus Carrier Route Bundles on a 5-Digit/Direct Container (High Density Plus-CR Bundles/Container Discount Eligibility)—Flats

[Revise the text of 6.5.4 to read as follows:]

The High Density Plus-CR Bundles/Container discount applies to 300 or more High Density Plus-eligible pieces that are palletized under 705.8.0, 705.10.0, 705.12.0, or 705.13.0 on a5-digit carrier route, 5-digit carrier routes, or 5-digit scheme carrier route pallet entered at an Origin (None), DNDC, DSCF, or DDU entry or in a carrier route sack or flat tray under 245.9.7a or 203.5.8 and entered at the DDU.

* * * * *

6.7 Saturation Enhanced Carrier Route Standards—Flats

* * * * *

6.7.2 Saturation Prices for Flats

* * * * *

[Revise item c to read as follows:]

c. Placed in a merged 5-digit scheme or merged 5-digit flat tray.

[Add new item d to read as follows:]

d. Placed in a 5-digit scheme carrier routes or 5-digit carrier routes sack/flat tray.

6.7.3 Saturation—(Including EDDM) Carrier Route Bundles on a 5-Digit/Direct Container (Saturation-CR Bundles/Container Discount Eligibility)—Flats

[Revise the text of 6.7.3 to read as follows:]

The Saturation-CR Bundles/Container discount applies to at least 90 percent or more of the active residential addresses or 75 percent or more of the total number of active possible delivery addresses on each carrier route that are palletized under 705.8.0, 705.10.0, 705.12.0, or 705.13.0 on a 5-digit carrier route, 5-digit carrier routes, or 5-digit scheme carrier route pallet entered at an Origin (None), DNDC, DSCF, or DDU entry or in a carrier route sack or flat tray under 245.9.7a or 203.5.8 and entered at the DDU.

* * * * *

245 Mail Preparation

* * * * *

1.0 General Information for Mail Preparation

* * * * *

1.3.2 Flats

* * * * *

[Revise item c. to read as follows:]

c. 5-digit scheme (bundles and flat trays) for flats meeting the automation-compatibility standards in 201.4.0: the ZIP Code in the delivery address on all pieces is one of the 5-digit ZIP Code areas processed by the USPS as a single scheme, as shown in L007.

* * * * *

[Revise item e. to read as follows:]

e. Merged 5-digit flat trays: the carrier route bundles and/or automation price 5-digit bundles and/or Presorted price5-digit bundles in a flat tray are all for a 5-digit ZIP Code that has an “A” or “C” indicator in the Carrier Route Indicators field in the City State Product that allows combining carrier route price bundles with automation price 5-digit bundles and Presorted price 5-digit bundles in the same 5-digit container.

* * * * *

[Revise item g. to read as follows:]

g. Merged 5-digit scheme flat tray: the 5-digit ZIP Codes on pieces in carrier route bundles and/or automation price 5-digit bundles and/or Presorted price5-digit bundles in a flat tray are all for5-digit ZIP Codes that are part of a single scheme as shown in L001, and the automation price 5-digit bundles and/or the Presorted price 5-digit bundles also are for 5-digit ZIP Codes that have an “A” or “C” indicator in the Carrier Route Indicators field in the City State Product that allows combining carrier route bundles with automation price 5-digit bundles and Presorted price 5-digit bundles in the same 5-digit container.

* * * * *

[Revise item q. to read as follows:]

q. Residual pieces/bundles/flat trays: contain material remaining after completion of a presort sequence. Residual mail lacks the volume set by standard to require or allow preparation to a particular destination, and usually does not qualify for a presort price.

* * * * *

1.4 Preparation Definitions and Instructions

* * * * *

[Add new item (e) to read as follows; renumber current items (e) through (y) as (f) through (z):]

e. A full flat tray is one that is physically full. Although a specific minimum volume is required (at least a single stack of mail lying flat on the bottom of the tray and filling the tray to the bottom of the handholds) before a tray may or must be prepared to the corresponding presort destination, trays must be filled with additional available pieces (up to the reasonable capacity of the tray) when standards require preparation of full trays.

[Revise new item f. to read as follows:]

f. A full sack is defined in the standards for the class and price claimed.

* * * * *

[Revise new item h. to read as follows:]

h. A 5-digit scheme sort for flats meeting the automation-compatibility standards in 201.3.0 yields 5-digit scheme bundles for those 5-digit ZIP Codes identified in L007 and 5-digit bundles for other ZIP Codes. When standards require 5-digit/scheme sort, mailers must prepare all possible 5-digit scheme bundles and flat trays of flats, then prepare all possible 5-digit bundles and flat trays. The 5-digit ZIP Codes in each scheme are treated as a single presort destination subject to a single minimum volume, with no further separation required. Bundles prepared for a 5-digit scheme destination that contain pieces for only one of the schemed 5-digit ZIP Codes are still considered 5-digit scheme sorted and are labeled accordingly. Bundles must be labeled using an optional endorsement line (OEL) under 203.7.0 or with a red “5 SCH” bundle label. Bundles are placed in appropriate containers using the OEL “label to”5-digit ZIP Code or using L007 column B.

* * * * *

[Revise new items k. through m. to read as follows:]

k. A merged 5-digit sort for USPS Marketing Mail flats prepared in flat trays yields merged 5-digit flat trays that contain carrier route bundles and/or automation price 5-digit bundles, and/or Presorted price 5-digit bundles that are all for a 5-digit ZIP Code that has an “A” or “C” indicator in the Carrier Route Indicators field in the City State Product that allows combining carrier route bundles, automation price 5-digit bundles, and Presorted price 5-digit bundles in the same 5-digit flat tray or pallet. The merged 5-digit sort is optional for USPS Marketing Mail flats prepared in flat trays. Flat trays prepared for a merged 5-digit destination that contain only a single price level of bundle(s) (only carrier route bundle(s) or only automation price 5-digit bundle(s) or only Presorted price 5-digit bundle(s)) or that contain only two price levels of bundle(s) are still considered to be merged 5-digit sorted and are labeled accordingly. If preparation of merged 5-digit flat trays is performed, it must be done for all5-digit ZIP Code destinations with an “A” or “C” indicator in the Carrier Route Indicators field in the City State Product that allows combining carrier route bundles, automation price 5-digit bundles, and Presorted price 5-digit bundles in the same 5-digit container.

l. A merged 5-digit sort for USPS Marketing Mail flats prepared as bundles on pallets yields merged 5-digit pallets that contain carrier route bundles and noncarrier route 5-digit bundles (automation price 5-digit bundles and/or Presorted price 5-digit bundles). The merged 5-digit sort is optional for USPS Marketing Mail flats prepared in flat trays under 705.10.0. Flat trays or pallets prepared for a merged 5-digit destination that contain only a single price level of bundle(s) (only carrier route bundle(s) or only automation price 5-digit bundle(s) or only Presorted price 5-digit bundle(s)) or only two price levels of bundle(s) are still considered to be merged 5-digit sorted and must be labeled accordingly.

m. A merged 5-digit scheme sort for USPS Marketing Mail flats prepared in flat trays under 705.10.0 yields merged 5-digit scheme flat trays that contain carrier route bundles and noncarrier route 5-digit bundles (automation price 5-digit bundles and/or Presorted price5-digit bundles) for those 5-digit ZIP Codes that are part of a single scheme as shown in L001. Flat trays prepared for a merged 5-digit scheme destination that contain only a single price level of bundle(s) (only carrier route bundle(s) or only automation price 5-digit bundle(s) or only presorted price 5-digit bundle(s)), or only two price levels of bundle(s), or bundles for only one of the schemed 5-digit ZIP Codes are still considered to be merged 5-digit scheme sorted and must be labeled accordingly. If preparation of merged 5-digit scheme flat trays is performed, it must be done for all 5-digit scheme destinations in L001.

* * * * *

[Revise new item y. to read as follows:]

y. A “logical” presort destination represents the total number of pieces that are eligible for a specific presort level based on the required sortation, but which might not be contained in a single bundle or in a single container (flat tray, sack, or pallet) due to applicable preparation requirements or the size of the individual pieces. For example, there may be 42 mailpieces for ZIP Code 43112 forming a USPS Marketing Mail “logical” 5-digit bundle, and they are prepared in three physical 5-digit bundles because of the applicable weight and height restrictions on bundles. For pallets, 2,800 pounds of mail may be destined to an SCF destination, and these would form the “logical” SCF pallet, but the mail is placed on two physical SCF pallets each weighing 1,400 pounds because of the 2,200 pound maximum pallet weight requirement.

* * * * *

3.0 Letter Trays, Flat Trays, and Sacks

[Revise the second sentence of 3.0 to read as follows:]

* * * Flat mailings must be prepared in flat trays or sacks (carrier route,5-digit scheme carrier route and 5-digit carrier route only) except when permitted to be prepared in letter trays under other applicable standards in this section. * * *

* * * * *

8.0 Preparing Nonautomation Flats

* * * * *

8.1 Basic Standards

* * * * *

[Revise the text of 8.1b2 to read as follows:]

2. Unless excepted by standard, all pieces must be in the flat-size processing category and must be prepared in flat trays, sacks or on pallets. Certain flat-size pieces may be prepared in letter trays under 3.0.

8.4 Loose Packing

[Revise the text to read as follows:]

District managers may authorize loose packing of unbundled pieces in flat trays if no pieces in a flat tray would be more finely sorted if bundled. Pieces must be faced and packed to remain oriented in transit. Requests for loose packing must be made in advance through the Post Office of mailing.

8.5 Required Traying

[Revise the text of 8.5 to read as follows:]

Except as provided in 8.6, a flat tray, or a letter tray under 3.0, must be prepared when the quantity of mail for a required presort destination reaches a full flat tray (up to the handholds), 125 pieces or 15 pounds of pieces, subject to these conditions: * * *

[Revise the text of 8.5b(2) to read as follows:]

2. The actual piece count or mail weight for each tray is used, if documentation can be provided with the mailing that shows for each tray the number of pieces and the total weight.

* * * * *

[Revise the title of 8.7 to read as follows:]

8.7 Traying, and Labeling

[Revise the introductory sentence to read as follows:]

Preparation sequence, flat tray and labeling:

* * * * *

[Revise items 8.7a to read as follows:]

a. 5-digit/scheme (required); scheme sort required (before 5-digit sort), only for pieces meeting the automation flats criteria in 201.6.0, see definition in 1.4j; full flat tray, 125-piece, or 15-pound minimum; labeling: * * *

[Revise items 8.7a(1) and 8.7a(2) to read as follows:]

1. Line 1: For 5-digit scheme flat trays use L007, Column B. For 5-digit flat trays, use city, state, and 5-digit ZIP Code destination on pieces. (See 203.5.11 for overseas military mail).

2. Line 2: For 5-digit scheme flat trays, “STD FLT 5D SCH NON BC.” For 5-digit flat trays, “STD FLTS 5D NON BC.”

[Revise items 8.7b to read as follows:]

b. 3-digit (required); full flat tray, 125-piece, or 15 pound minimum; labeling: * * *

* * * * *

[Revise items 8.7d to read as follows:]

d. ADC (required); full flat tray, 125-piece, or 15 pound minimum; labeling: * * *

* * * * *

8.8 Cotraying and Cobundling Flats With Automation Mail

* * * * *

[Revise items b, c, and d to read as follows:]

b. If the mailing job contains an automation mailing and a nonautomation mailing, then it must be prepared under the cotrayed standards in 705.9.0.

c. If the mailing job contains a carrier route mailing and a nonautomation mailing, then it must be separately sacked or trayed under 5.0 and 9.0 or prepared using the merged sacking/traying option in 705.10.0.

d. If the mailing job contains a carrier route mailing and an automation mailing, then it must be separately sacked or trayed under 9.0 and 10.0 or prepared using the merged sacking/traying option in 705.10.0.

* * * * *

8.9 Merged Containerization of Carrier Route, Automation, and Nonautomation Flats

[Revise the text of 8.9 to read as follows:]

Under the optional preparation in 705.10.0, nonautomation 5-digit bundles prepared under 5.2 through 8.8 are cotrayed with carrier route bundles prepared under 9.0 and with automation 5-digit bundles prepared under 10.0 in merged 5-digit scheme flat trays and merged 5-digit flat trays. Under the optional preparation in 705.10.0, 705.12.0, or 705.13.0, nonautomation 5-digit bundles are copalletized with carrier route bundles prepared under 9.0 and with automation 5-digit bundles prepared under 10.0 on merged 5-digit scheme pallets and merged 5-digit pallets. See 8.8a for information on when preparation under 705.10.0 may be required.

8.10 Residual Pieces

[Revise the introductory text of 8.10 to read as follows:]

Mailers entering USPS Marketing Mail residual pieces that do not qualify for USPS Marketing Mail prices, and paying the First-Class Mail prices (but prepared “as is” under 244.5.0), must separately bundle and flat tray residual pieces from the automation and presort pieces. Mailers must label flat trays under 204.3.0 using the CIN code 582 for use with residual flat trays. Label flat trays as follows: * * *

* * * * *

9.0 Preparing Enhanced Carrier Route Flats

* * * * *

9.6 Required Flat Tray/Sack Minimums

[Revise the introductory text of 9.6 to read as follows:]

When traying/sacking is required, mailers must prepare a flat tray/sack when the quantity of mail for a required presort destination reaches either up to the handholds (see full flat tray 245.1.4), 125 pieces or 15 pounds of pieces (sacks), whichever occurs first. The following conditions apply:

* * * * *

[Revise item c. to read as follows:]

c. Less than full flat trays (see 245.1.4) and sacks with fewer than 125 pieces or less than 15 pounds of pieces may be prepared to a carrier route when the saturation price is claimed for the contents and the applicable density standard is met.

* * * * *

9.8 Merged Containerization of Carrier Route, Automation, and Presorted Price Flats

[Revise the first sentence of 9.8 to read as follows:]

Under the optional preparation in 705.10.0, carrier route price bundles prepared under 9.3 and 9.4 are cotrayed with Presorted price 5-digit bundles prepared under 8.0 and with automation price 5-digit bundles prepared under 10.0 in merged 5-digit scheme flat trays and merged 5-digit flat trays. * * *

* * * * *

10.0 Preparing Automation Flats

[Revise the last sentence of 10.1 to read as follows:]

10.1 Basic Standards

* * * Flat trays must bear the appropriate barcoded container labels under 4.0.

* * * * *

[Revise the title of 10.4 to read as follows:]

10.4 USPS Marketing Mail Bundle and Flat Tray Preparation

* * * * *

[Revise the title of 10.4.2 to read as follows:]

10.4.2 Required Traying

[Revise the introductory text of 10.4.2 to read as follows:]

A flat tray or a letter tray under 3.0, must be prepared when the quantity of mail for a required presort destination reaches either a full flat tray (1.4e), 125 pieces, or 15 pounds of pieces, whichever occurs first, subject to these conditions:

* * * * *

[Revise the text of 10.4.2b to read as follows:]

b. For nonidentical-weight pieces, mailers must either use the minimum that applies to the average piece weight for the entire mailing (divide the net weight of the mailing by the number of pieces; the resulting average single-piece weight determines whether the 125-piece or 15-pound minimum applies) or tray by the actual piece count or mail weight for each flat tray, if documentation can be provided with the mailing that shows (specifically for each flat tray) the number of pieces and their total weight.

[Revise the title of 10.4.3 to read as follows:]

10.4.3 Traying and Labeling

[Revise the first sentence of 10.4.3 to read as follows:]

Preparation sequence, flat tray size, and labeling:

* * * * *

[Revise the text of items 10.4.3a, 10.4.3a(1) and 10.4.3a(2) to read as follows:]

a. 5-digit/scheme (required); scheme sort required before 5-digit sort; see definition in 1.4g.; full flat tray, 125-piece, or 15-pound minimum, labeling:

1. Line 1: For 5-digit scheme flat trays use L007, Column B. For 5-digit flat trays use city, state, and 5-digit ZIP Code on mail (see 203.5.11 for overseas military mail).

2. Line 2: For 5-digit scheme flat trays, “STD FLTS 5D SCH BC.” For 5-digit flat trays, “STD FLTS 5D BC.”

[Revise the text of items 10.4.3b to read as follows:]

b. 3-digit (required); full flat tray, 125-piece, or 15-pound minimum; labeling: * * *

* * * * *

[Revise the text of items 10.4.3d to read as follows:]

d. ADC (required); full flat tray, 125-piece, or 15-pound minimum; labeling:

* * * * *

700 Special Standards

* * * * *

705 Advanced Preparation and Special Postage Payment Systems

* * * * *

8.0 Preparing Pallets

* * * * *

8.5 General Preparation

* * * * *

8.5.3 Minimum Load

* * * * *

[Revise the text of 8.5.3a(1) to read as follows:]

1. In a single mailing, the minimum load per pallet is 250 pounds of bundles, parcels, or sacks, except as provided in items 2 through 4 below. When preparing letter trays on pallets, the minimum load is 36 linear feet or three layers of trays, except as provided in items 2 and 4 below. When preparing flat trays on pallets, the minimum load is 24 linear feet or three layers of flat trays, except as provided in items 2 and 4 below.

* * * * *

8.10 Pallet Presort and Labeling

* * * * *

8.10.2 Periodicals—Bundles, Sacks, Letter, or Flat Trays

* * * * *

[Revise the text of 8.10.2f to read as follows:]

f. 5-digit, required, except for letter trays; permitted for bundles, sacks, and trays. Pallet must contain only automation price and/or Presorted price mail for the same 5-digit ZIP Code or the same 5-digit scheme under L007 (for automation-compatible flats only under 201.6.0). Five-digit scheme bundles are assigned to pallets according to the “label to” 5-digit ZIP Code in L007. Labeling: * * *

* * * * *

[Revise the text of 8.10.2h to read as follows:]

h. SCF, required, permitted for bundles, sacks, and trays. Pallet may contain carrier route, automation price, and/or Presorted price mail for the 3-digit ZIP Code groups in L005. Mailers may place origin mixed ADC (OMX) sacks (parcels only) or flat trays on origin SCF pallets. Labeling: * * *

* * * * *

[Revise the text of 8.10.2j to read as follows:]

j. Origin Mixed ADC (OMX), optional for sacks and trays; allowed with no minimum and required at 100 pounds of mail for bundles of flats. Bundles of flats totaling less than 100 pounds in weight must be trayed if not palletized. Pallet may contain carrier route, automation price, and presorted price mail. Labeling: * * *

[Revise the text of 8.10.2k to read as follows:]

k. Mixed ADC, optional for sacks and trays; allowed with no minimum and required at 100 pounds of mail for bundles of flats. Bundles of flats totaling less than 100 pounds in weight must be trayed if not palletized. Pallet may contain carrier route, automation price, or presorted price mail. Pallets must not contain sacks, trays or bundles that should be properly placed on the origin mixed ADC (OMX) pallet. Labeling: * * *

* * * * *

8.10.3 USPS Marketing Mail or Parcel Select Lightweight—Bundles, Sacks, or Trays

* * * * *

[Revise the text of 8.10.3f to read as follows:]

f. ASF, required unless bundle reallocation used under 8.13, permitted for bundles, sacks, and trays. Pallet may contain carrier route, automation price, and/or Presorted price mail for the 3-digit ZIP Code groups in L602. ADC bundles, sacks, or trays are assigned to pallets according to the “label to” ZIP Code in L004 as appropriate. AADC trays are assigned to pallets according to the “label to” ZIP Code in L801. At the mailer's option, appropriate mixed ADC bundles and trays of flats; and mixed ADC and mixed AADC trays of letters, may be sorted to ASF pallets according to the “label to” ZIP Code in L010. All mixed ADC bundles, sacks, and trays and mixed AADC trays must contain only pieces destinating within the ASF as shown in L602. Labeling: * * *

[Revise the text of 8.10.3g to read as follows:]

g. NDC, required, permitted for bundles, sacks, and trays. Pallet may contain carrier route, automation price, and/or Presorted price mail for the 3-digit ZIP Code groups in L601. ADC bundles, sacks, or trays are assigned to pallets according to the “label to” ZIP Code in L004 as appropriate. AADC trays are assigned to pallets according to the “label to” ZIP Code in L801. At the mailer's option, appropriate mixed ADC bundles and trays of flats; and mixed ADC trays and mixed AADC trays of letters, may be sorted to NDC pallets according to the “label to” ZIP Code in L010. All mixed ADC bundles, sacks, and trays and mixed AADC trays must contain only pieces destinating within the NDC as shown in L601. Labeling: * * *

[Revise the text of 8.10.3h to read as follows:]

h. Mixed NDC, optional, permitted for sacks and trays only; allowed with no minimum and required at 100 pounds of mail for bundles of flats. Bundles of flats totaling less than 100 pounds in weight must be trayed if not palletized. Pallet may contain carrier route, automation, and/or Presorted mail. Mailers must place trays and sacks containing pieces paid at the single-piece price on the mixed NDC pallet (unless required to be presented separately by special postage payment authorization). Labeling: * * *

* * * * *

8.11 Bundle Reallocation To Protect SCF Pallet for Periodicals Flats and Irregular Parcels and USPS Marketing Mail Flats on Pallets

* * * * *

8.11.3 Reallocation of Bundles If Optional 3-Digit Pallets Are Prepared

* * * * *

[Revise the text of 8.11.3d to read as follows:]

d. If no single 5-digit level pallet within the SCF service area contains an adequate volume of mail to allow reallocation of a portion of the mail on a pallet as described in 8.11.3c, then no bundles will be reallocated and an SCF pallet will not be prepared; the mail that falls beyond the SCF pallet level must be placed on the next appropriate pallet (ADC, ASF, NDC or MNDC) or in the next appropriate sack (irregular parcels) or flat tray.

8.11.4 Reallocation of Bundles If Optional 3-Digit Pallets Are Not Prepared

* * * * *

[Revise the text of 8.11.4b to read as follows:]

b. If no single 5-digit level pallet within the SCF service area contains an adequate volume of mail to allow reallocation of a portion of the mail on a pallet as described in 8.11.4a, then no bundles will be reallocated and a SCF pallet will not be prepared; the mail that falls beyond the SCF pallet level must be placed on the next appropriate pallet (ADC, ASF, NDC, or MNDC) or in the next appropriate sack (irregular parcels) or flat tray.

* * * * *

8.12 Bundle Reallocation To Protect ADC Pallet for Periodicals Flats and Irregular Parcels on Pallets

8.12.1 Basic Standards

[Revise the text of 8.12.1 to read as follows:]

Bundle reallocation to protect the ADC pallet is an optional preparation method authorized for mailers using PAVE-certified presort software and may be used to create pallets under the standards in 8.12.2 and 8.12.3. Presort software determines if mail for an ADC service area falls beyond the ADC level if all finer level pallets are prepared. Reallocation is performed only when there is mail for the ADC service area that falls beyond the ADC pallet level (e.g., to sacks or flat trays). Reallocate only the minimum number of bundles necessary to create an ADC pallet at the minimum required weight.

* * * * *

[Revise the title of 705.9.0 to read as follows:]

9.0 Combining Bundles of Automation and Nonautomation Flats in Flat Trays

* * * * *

9.2 Periodicals

9.2.1 Basic Standards

[Revise the text of the introductory paragraph of 9.2.1 to read as follows:]

Bundles of flat-size pieces in a machinable barcoded (automation) price mailing must be cotrayed with bundles of flat-size pieces in a machinable nonbarcoded price mailing under the following conditions:

* * * * *

[Revise the text of 9.2.1b through 9.2.1f to read as follows:]

b. The machinable barcoded price mailing must meet the eligibility criteria in 207.14.0, except that the traying and documentation criteria in 9.2.1, 9.2.3, and 9.2.4 must be met rather than the traying and documentation criteria in 207.25.0.

c. The machinable nonbarcoded price mailing must meet the eligibility criteria in 207.12.0, except that the traying and documentation criteria in 9.2.1, 9.2.3, and 9.2.4 must be met rather than the traying and documentation criteria in 207.25.0.

d. The bundles prepared from the machinable barcoded price mailing and the bundles prepared from the machinable nonbarcoded price mailing must be sorted into the same flat trays as described in 9.2.3 and 9.2.4.

e. A complete, signed, appropriate postage statement(s), using the correct USPS form or an approved facsimile, must accompany each mailing job prepared under these procedures. In addition to the applicable postage statement, documentation produced by PAVE-certified software or standardized documentation under 203.3.0 must be submitted with each cotrayed mailing job that describes for each flat tray sortation level the number of pieces qualifying for each applicable price.

f. Barcoded tray labels under 204.3.0 must be used to label flat trays.

* * * * *

9.2.3 Bundles With Fewer Than Six Pieces

[Revise the text of 9.2.3 to read as follows:]

5-digit and 3-digit bundles prepared under 207.22.0 and 207.25.0 may contain fewer than six pieces when the publisher determines that such preparation improves service. These low-volume bundles may be placed in 5-digit, 3-digit, and SCF flat trays that contain at least 24 pieces or on 5-digit, 3-digit, or SCF pallets. Pieces in low-volume bundles must claim the applicable mixed ADC price (Outside-County) or basic price (In-County).

[Delete section 9.2.4 in its entirety and renumber 9.2.5 as 9.2.4:]

* * * * *

[Revise the title of the new section 9.2.4 to read as follows:]

9.2.4 Flat Tray Preparation—Flat-Size Machinable Pieces

[Revise the introductory text of the new 9.2.4 to read as follows:]

See 207.20.0 for use of flat trays. Machinable pieces meeting the criteria in 201.6.0—Mailers must either bundle or group all pieces as specified in 207.25.0 and 207.22.0 for each 5-digit scheme, 5-digit, 3-digit scheme, 3-digit, SCF, and ADC destination. Bundling is not permitted unless it achieves a finer presort than the presort destination of the tray. The trays are subject to a container charge, and any bundles are subject to a bundle charge. Tray preparation, sequence, and labeling:***

* * * * *

9.3 USPS Marketing Mail

9.3.1 Basic Standards

[Revise the introductory text of 9.3.1 to read as follows:]

Bundles of flats in an automation price mailing must be cotrayed with bundles of flats in a Presorted price mailing under the following conditions:

* * * * *

[Revise the text of 9.3.1c through 9.3.1i to read as follows:]

c. The automation price mailing must meet the eligibility criteria in 243.7.0, except that the traying and documentation criteria in 9.3.1, 9.3.4, and 9.3.5 must be met rather than the traying and documentation criteria in 245.7.0.

d. The Presorted price mailing must meet the eligibility criteria in 243.2.0 and 243.3.0, except that the traying and documentation criteria in 9.3.1, 9.3.4, and 9.3.5 must be met rather than the traying and documentation criteria in 245.5.0.

e. The prices for pieces in the automation price mailing are applied based on the number of pieces in the bundle and the level of bundle to which they are sorted under 243.7.0. The prices for pieces in the Presorted price mailing are based on the number of pieces in the bundle and the level of flat tray in which they are placed under 243.3.6 and 243.3.7.

f. The pieces must be marked according to 202.

g. The bundles prepared from the automation price mailing and the bundles prepared from the Presorted price mailing must be sorted into the same flat trays as described in 9.3.4 and 9.3.5.

h. A complete, signed postage statement(s), using the correct USPS form or an approved facsimile, must accompany each mailing job prepared under these procedures. In addition to the applicable postage statement, documentation produced by PAVE-certified software or standardized documentation under 203.3.0 must be submitted with each cotrayed mailing job that describes for each flat tray sortation level the number of pieces qualifying for each applicable automation price and the number of pieces qualifying for each applicable Presorted price.

i. Barcoded tray labels under 204.3.0 must be used to label the flat trays.

* * * * *

[Revise the title of 9.3.4 to read as follows:]

9.3.4 Traying Rules—Less Than Full Flat Trays

[Revise the text of 9.3.4 to read as follows:]

When full trays are specified for a flat tray sortation level in 9.3.5, the provisions of 245.7.4 (letters) and 245.1.4e (flats) apply.

[Revise the title of 9.3.5 to read as follows:]

9.3.5 Flat Tray Preparation and Labeling

[Revise the introductory text of 9.3.5 to read as follows:]

Presorted price and automation price bundles prepared under 9.3.2 and 9.3.3 must be presorted together into flat trays (cotrayed) in the sequence listed below. Flat trays must be labeled using the following information for Lines 1 and 2, and 245.4.0 for other flat tray label criteria.

* * * * *

[Revise items 9.3.5a(1) and 9.3.5a(2) to read as follows:]

1. Line 1: For 5-digit scheme flat trays, use L007, Column B. For 5-digit flat trays, use city, state, and 5-digit ZIP Code destination on pieces.

2. Line 2: For 5-digit scheme flat trays, “STD FLT 5D SCH BC/NBC”; for 5-digit flat trays, “STD FLT 5D BC/NBC.”

[Revise item 9.3.5b to read as follows:]

b. 3-digit, required, full flat tray, 125-piece, or 15-pound minimum; labeling:* * *

* * * * *

[Revise item 9.3.5d to read as follows:]

d. ADC, required, full flat tray, 125-piece, or 15-pound minimum; use L004 to determine ZIP Codes served by each ADC; labeling:* * *

* * * * *

[Revise the title of 9.3.6 to read as follows:]

9.3.6 Letter Tray Preparation and Labeling

* * * * *

10.0 Merging Bundles of Flats Using the City State Product

10.1 Periodicals

10.1.1 Basic Standards

[Revise the introductory text of 10.1.1 to read as follows:]

Carrier route bundles in a carrier route mailing may be placed in the same flat trays or on the same pallet as 5-digit bundles from machinable (barcoded or nonbarcoded) price mailings (including pieces cobundled under 11.0) under the following conditions:

[Revise the text of 10.1.1a to read as follows:]

a. A carrier route mailing must be part of the mailing job, unless cobundled under 11.0 using 5-digit scheme (L007) or 3-digit scheme (L008) bundle preparation, and trayed under 10.1.4.

* * * * *

[Revise the text of 10.1.1c to read as follows:]

c. Pieces in the machinable price mailing must meet the flats criteria in 201.6.0; pieces that meet the flats criteria in 207.26.0 also may be trayed under this option. Pieces in the machinable nonbarcoded price mailing and the carrier route mailing must be flat-size.

* * * * *

[Revise the text of 10.1.1e through 10.1.1j to read as follows:]

e. Carrier route bundles may be cotrayed or copalletized with machinable barcoded price 5-digit bundles, machinable nonbarcoded price 5-digit bundles, and cobundled 5-digit bundles only for those 5-digit ZIP Codes that have an “A” or “C” indicator in the Carrier Route Indicators field in the City State Product indicating eligibility for such cotraying or copalletization. Containers of mail sorted in this manner are called “merged 5-digit” flat trays or pallets. Containers of mail sorted in this manner for which scheme (L001) sortation is also performed are called “merged 5-digit scheme” flat trays or pallets. Pieces in 5-digit scheme (L007) bundles may not be placed in merged5-digit containers.

f. If sortation under this section is performed, merged 5-digit flat trays or pallets must be prepared for all 5-digit ZIP Codes with an “A” or “C” indicator in the City State Product that permits such preparation when there is enough volume for the 5-digit ZIP Code to prepare such a flat tray under 10.1.4 or such a pallet under 10.1.5. In addition, all possible merged 5-digit scheme flat trays must be prepared under 10.1.4, or all possible merged 5-digit scheme and 5-digit scheme pallets must be prepared under 10.1.5.

g. For mailings prepared in flat trays, mailers may not combine firm bundles and 5-digit scheme pieces in 5-digit scheme bundles or in 5-digit scheme flat trays. Firm bundles must be placed in a separate individual 5-digit flat tray under 10.1.4g to maintain 5-digit price eligibility. Mailers may combine firm bundles with 5-digit scheme, 3-digit scheme, and other presort destination bundles in carrier route, 5-digit, 3-digit, SCF, ADC, and mixed ADC flat trays. Only an In-County firm bundle can contribute toward the six-piece minimum for price eligibility.

h. The bundles from each separated mailing must be sorted together into flat trays (cotrayed) under 10.1.4 or on pallets (copalletized) under 10.1.5 using presort software that is PAVE-certified.

i. A complete, signed postage statement(s), using the correct USPS form or an approved facsimile, must accompany each mailing job prepared under these procedures. In addition to the postage statement(s), documentation prepared by PAVE-certified software must be submitted with each cotrayed or copalletized mailing job that describes for each flat tray sortation level and flat tray, or each pallet sortation level and pallet, the number of pieces qualifying for each applicable price.

j. Barcoded tray labels under 204.3.0 must be used to label flat trays.

* * * * *

10.1.3 Bundles With Fewer Than Six Pieces

[Revise the introductory text of 10.1.3 to read as follows:]

Carrier route, 5-digit scheme, 5-digit, 3-digit scheme, and 3-digit bundles may contain fewer than six pieces when the publisher determines that such preparation improves service. Pieces in these low-volume bundles must be claimed at the applicable mixed ADC price (Outside-County) or basic price (In-County). Low-volume bundles are permitted only when they are sacked (as applicable), trayed, or prepared on pallets as follows:

* * * * *

[Revise the text of items 10.1.3a(1) through 10.1.3a(3) to read as follows:]

1. Carrier route, merged 5-digit scheme, 5-digit scheme carrier routes, merged 5-digit, 5-digit carrier routes,5-digit, 3-digit, and SCF sacks (5-digit scheme carrier routes and 5-digit carrier routes only) or flat trays that contain at least 24 pieces.

2. Merged 3-digit flat trays that contain at least one six-piece carrier route bundle.

3. Origin/entry SCF flat trays.

* * * * *

[Revise the text of 10.1.3b to read as follows:]

b. Place low-volume 5-digit scheme bundles in only 5-digit scheme, 3-digit, and SCF flat trays that contain at least 24 pieces, or in origin/entry SCF flat trays, or on 3-digit or SCF pallets, as appropriate.

[Revise the title of 10.1.4 to read as follows:]

10.1.4 Sack and Flat Tray Preparation and Labeling

[Revise the introductory text of 10.1.4 to read as follows:]

All carrier route bundles must be placed in sacks/flat trays under 10.1.4a through 10.1.4e and 10.1.4h as described below. When sorting is performed under this section, mailers must prepare merged 5-digit scheme sacks (irregular parcels) or flat trays, 5-digit scheme carrier routes sacks/flat trays, and merged 5-digit sacks (irregular parcels) or flat trays for all possible 5-digit schemes or 5-digit ZIP Codes as applicable, using L001 (merged 5-digit scheme and 5-digit scheme carrier routes sort only) and the Carrier Route Indicators field in the City State Product when there is enough volume for the 5-digit scheme or 5-digit ZIP Code to prepare such sacks (irregular parcels) or flat trays under 10.1.4. Mailers must label sacks/flat trays according to the Line 1 and Line 2 information listed below and under 207.20.1. If, due to the physical size of the mailpieces, the barcoded pieces are considered flat-size under 207.26.0, and the carrier route pieces and nonbarcoded pieces are considered irregular parcels under 201.7.6, “FLTS” must be shown as the processing category on the sack/tray label. If a mailing job does not contain barcoded price pieces and the carrier route pieces and the nonbarcoded pieces are irregular parcel shaped, use “IRREG” for the processing category on the contents line of the label. Mailers must prepare sacks/flat trays containing carrier route and 5-digit bundles from the carrier route, barcoded, and nonbarcoded mailings in the mailing job in the following manner and sequence:

* * * * *

[Revise the text of item 10.1.4b to read as follows:]

b. Merged 5-digit scheme, required at 72 pieces, optional at 24 pieces minimum. Must contain at least one 5-digit ZIP Code in the scheme with an “A” or “C” indicator in the City State Product. May contain carrier route bundles for any 5-digit ZIP Code(s) in a single scheme listed in L001 as well as machinable barcoded price 5-digit bundles and machinable nonbarcoded price 5-digit bundles for those 5-digit ZIP Codes in the schemes that have an “A” or “C” indicator in the City State Product. For 5-digit ZIP Code(s) in a scheme that has a “B” or “D” indicator in the City State Product, prepare sack(s) (irregular parcels only) or flat tray(s) under 10.1.4g and 10.1.4h. For 5-digit ZIP Codes not included in a scheme, prepare sacks (irregular parcels only) or flat trays under 10.1.4d through 10.1.4h. Labeling: * * *

* * * * *

[Revise the text of item 10.1.4h to read as follows:]

h. Merged 3-digit. Required for carrier route, 5-digit, and 5-digit scheme bundles remaining after preparing sacks (irregular parcels only) or flat trays under 10.1.4a through 10.1.4g, and any 3-digit and 3-digit scheme bundles with a minimum of 24 pieces for a 3-digit area. Labeling: * * *

* * * * *

10.2 USPS Marketing Mail

10.2.1 Basic Standards

[Revise the introductory text of 10.2.1 and item 10.2.1a to read as follows:]

Carrier route bundles from a carrier route price mailing may be placed in the same flat tray or on the same pallet as 5-digit bundles from an automation price mailing and 5-digit bundles from a Presorted price mailing (including pieces cobundled under 11.0) under the following conditions:

a. A carrier route mailing must be part of the mailing job, unless cobundled under 11.0 utilizing 5-digit scheme (L007) or 3-digit scheme (L008) bundle preparation and trayed under 10.1.4.

* * * * *

[Revise the text of items 10.2.1e through 10.2.1g to read as follows:]

e. Carrier route bundles may be cotrayed or copalletized with automation price 5-digit bundles, Presorted price 5-digit bundles, and cobundled 5-digit bundles only for those 5-digit ZIP Codes that have an “A” or “C” indicator in the Carrier Route Indicators field in the City State Product indicating eligibility for such cotraying or copalletization. Containers of mail sorted in this manner are called “merged 5-digit” flat trays or pallets. Containers of mail sorted in this manner for which scheme (L001) sortation is also performed are called “merged 5-digit scheme” flat trays or pallets. Pieces in 5-digit scheme (L007) bundles may not be placed in merged 5-digit containers.

f. If sortation under this section is performed, merged 5-digit flat trays or pallets must be prepared for all 5-digit ZIP Codes with an “A” or “C” indicator in the City State Product that permits such preparation when there is enough volume for the 5-digit ZIP Code to prepare that flat tray or pallet.

g. For trayed mailings, the prices for pieces in the carrier route mailing are based on the criteria in 243.6.0, the prices for pieces in the automation price mailing are applied based on the number of pieces in the bundle and the level of bundle to which they are sorted under 243.7.0, and the prices for pieces in the Presorted price mailing are based on the number of pieces in the bundle and the level of flat tray to which they are sorted under 243.5.0.

* * * * *

[Revise the text of 10.2.1j to read as follows:]

j. The bundles from each separate mailing must be sorted together into flat trays (cotrayed) under 10.2.3 and 10.2.4 or on pallets (copalletized) under 10.2.5 using presort software that is PAVE-certified.

* * * * *

[Revise the text of items 10.2.1l and 10.2.1m to read as follows:]

l. In addition to the applicable postage statement, documentation produced by PAVE-certified software must be submitted with each cotrayed or copalletized mailing job that describes for each sack/flat tray sortation level and flat tray, or each pallet sortation level and pallet, the number of pieces qualifying for each applicable carrier route price, each applicable automation price, and each applicable Presorted price.

m. Barcoded tray labels under 204.3.0 must be used to label flat trays.

* * * * *

10.2.4 Sack/Flat Tray Preparation and Labeling

[Revise the introductory text of 10.2.4 to read as follows:]

Mailers must prepare sacks/flat trays in the following manner and sequence. All carrier route bundles must be placed in sacks/flat trays under 10.2.4a through 10.2.4e as described below. Mailers must prepare all merged 5-digit scheme flat trays, 5-digit scheme carrier routes sacks/flat trays, and merged 5-digit flat trays that are possible in the mailing based on the volume of mail to the destination using L001 and the Carrier Route Indicators field in the City State Product. Mailers must label sacks/flat trays according to the Line 1 and Line 2 information listed below and under 245.4.0.

* * * * *

[Revise the text of 10.2.4b to read as follows:]

b. Merged 5-digit scheme, required and permitted only when there is at least one 5-digit ZIP Code in the scheme with an “A” or “C” indicator in the City State Product. May contain carrier route bundles for any 5-digit ZIP Code(s) in a single scheme listed in L001 as well as automation price 5-digit bundles and Presorted price 5-digit bundles for those 5-digit ZIP Codes in the scheme with an “A” or “C” indicator in the City State Product. When preparation of this flat tray level is permitted, a flat tray must be prepared if there are any carrier route bundle(s) for the scheme. If there is not at least one carrier route bundle for any 5-digit destination in the scheme, preparation of this flat tray is required when there is at least a full flat tray (245.1.4), 125 pieces or 15 pounds of pieces in 5-digit bundles for any of the 5-digit ZIP Codes in the scheme that have an “A” or “C” indicator in the City State Product (smaller volume not permitted). For a 5-digit ZIP Code(s) in a scheme with a “B” or “D” indicator in the City State Product, prepare flat tray(s) for the automation price and Presorted price bundles under 10.2.4g and 10.2.4h. For 5-digit ZIP Codes not included in a scheme, prepare flat trays under 10.2.4d through 10.2.4h. Labeling: * * *

* * * * *

[Revise the text of 10.2.4d to read as follows:]

d. Merged 5-digit, required. Must be prepared only for those 5-digit ZIP Codes that are not part of a scheme and that have an “A” or “C” indicator in the City State Product. May contain carrier route bundles, automation price 5-digit bundles, and Presorted price 5-digit bundles. Must be prepared if there are any carrier route bundles for the 5-digit destination. If there is not at least one carrier route bundle for the 5-digit destination, must be prepared when there is at least a full flat tray (245.1.4), 125 pieces or 15 pounds of pieces in 5-digit bundles for the same 5-digit destination (smaller volume not permitted). Labeling: * * *

[Revise the text of 10.2.4h to read as follows:]

h. 3-digit through Mixed ADC flat trays. Any 5-digit scheme and 5-digit bundles remaining after preparing flat trays under 10.2.4a through 10.2.4g, and all 3-digit, ADC, and Mixed ADC bundles, must be trayed and labeled according to the applicable requirements under 9.3 for cosacking/cotraying of automation price and Presorted price bundles, except if there are no automation price bundles in the mailing job, tray and label under 245.5.0, or, if there are no Presorted price bundles in the mailing job, tray and label under 245.7.4.

10.2.5 Pallet Preparation and Labeling

* * * * *

[Add a new item (j) to read as follows:]

j. Mixed NDC, use 8.10.3h, as applicable, to prepare and label Mixed NDC pallets.

* * * * *

11.0 Combining Automation Price and Nonautomation Price Flats in Bundles

* * * * *

11.2 Periodicals

11.2.1 Basic Standards

[Revise the third sentence of the introductory text of 11.2.1 to read as follows:]

* * * Mailing jobs (for flats meeting the criteria in 201.6.0) prepared using the 5-digit scheme and/or the 3-digit scheme bundle preparation must be trayed under 9.0 or 10.0 or palletized under 10.0, 12.0, or 13.0. * * *

* * * * *

[Revise the text of 11.2.1b to read as follows:]

b. Mailings prepared in flat trays must meet the basic standards in 9.0 or 10.0.

* * * * *

11.2.3 Bundles With Fewer Than Six Pieces

[Revise the last sentence of the introductory text of 11.2.3 to read as follows:]

* * * Low-volume bundles are permitted only when they are trayed or prepared on pallets as follows:

[Revise the text of items 11.2.3a and 11.2.3b to read as follows:]

a. Place low-volume 5-digit and 3-digit bundles in only 5-digit scheme, 5-digit, 3-digit, and SCF flat trays that contain at least 24 pieces; or in origin/entry SCF flat trays; or on merged 5-digit scheme, 5-digit scheme, merged 5-digit, 5-digit, 3-digit, or SCF pallets, as appropriate.

b. Place low-volume 5-digit scheme and 3-digit scheme bundles in only 5-digit scheme, 3-digit, and SCF flat trays that contain at least 24 pieces, or in origin/entry SCF flat trays, or on 3-digit or SCF pallets, as appropriate.

11.3 USPS Marketing Mail

11.3.1 Basic Standards

[Revise the introductory text of 11.3.1 to read as follows:]

Mailers may choose to cobundle (see 245.1.4u.) automation price and nonautomation price flat-size pieces as an option to the basic bundling requirements in 245.5.0 and 245.7.0. All pieces in the same bundle must meet the standards in 201.6.0. 5-digit scheme and 3-digit scheme bundles must meet the additional standards in 245.1.4f. and 245.1.4m. Mailing jobs prepared using the 5-digit scheme and/or 3-digit scheme bundle preparation (for flats meeting the criteria in 201.6.0) must be trayed under 10.0 or palletized under 10.0, 12.0, or 13.0. All bundles are subject to the following conditions:

* * * * *

[Revise the text of 11.3.1b to read as follows:]

b. Mailings prepared in flat trays must meet the basic standards in 9.0 or 10.0.

* * * * *

12.0 Merging Bundles of Flats on Pallets Using a 5% Threshold

12.1 Periodicals

12.1.1 Basic Standards

* * * * *

[Revise the text of 12.1.1g to read as follows:]

g. Portions of the mailing job that cannot be palletized must be prepared in sacks/flat trays.

* * * * *

12.2 USPS Marketing Mail

12.2.1 Basic Standards

* * * * *

[Revise the text of 12.2.1l to read as follows:]

l. Portions of the mailing job that cannot be palletized must be prepared in flat trays.

* * * * *

12.2.3 Pallet Preparation and Labeling

* * * * *

[Add a new item (j) to read as follows:]

j. Mixed NDC, use 8.10.3h, as applicable, to prepare and label Mixed NDC pallets.

* * * * *

13.0 Merging Bundles of Flats on Pallets Using the City State Product and a 5% Threshold

13.1 Periodicals

13.1.1 Basic Standards

* * * * *

[Revise the text of 13.1.1h to read as follows:]

h. Portions of the mailing job that cannot be palletized must be prepared in flat trays.

* * * * *

13.2 USPS Marketing Mail

13.2.1 Basic Standards

* * * * *

[Revise the text of 13.2.1m to read as follows:]

a. Portions of the mailing job that cannot be palletized must be prepared in flat trays.

* * * * *

13.2.4 Pallet Preparation and Labeling

[Add a new item (j) to read as follows:]

j. Mixed NDC, use 8.10.3h, as applicable, to prepare and label Mixed NDC pallets

* * * * *

Sarah Sullivan,
Attorney, Ethics & Legal Compliance.

[FR Doc. 2022-22958 Filed 10-19-22; 11:15 am]

BILLING CODE P